DEPARTMENT OF ENERGY

Federal Energy Regulatory Commission

Combined Notice of Filings #1

Take notice that the Commission received the following electric rate filings:

Docket Numbers: ER10-2566-010; ER13-2322-006; ER15-190-012; ER18-1343-005; ER19-1819-001; ER19-1820-001; ER19-1821-001.

Applicants: Duke Energy Carolinas, LLC, Broad River Solar, LLC, Carolina Solar Power, LLC, Speedway Solar NC, LLC, Stony Knoll Solar, LLC, Duke Energy Progress, Inc., Duke Energy Renewable Services, LLC.

Description: Notice of Change in Status of the Duke MBR Sellers.

Filed Date: 1/27/20.

Accession Number: 20200127-5200.

Comments Due: 5 p.m. ET 2/18/20.

Docket Numbers: ER19-1195-004.

Applicants: GSG 6, LLC.

Description: Compliance filing: Reactive Rate Service—Revised Effective Date (Corrected) to be effective 5/1/2019.

Filed Date: 1/28/20.

Accession Number: 20200128-5085.

Comments Due: 5 p.m. ET 2/18/20.

Docket Numbers: ER20-271-001.

Applicants: PJM Interconnection, L.L.C.

Description: Compliance filing: Compliance Filing Pursuant to December 30, 2019 Order re Price Responsive Demand to be effective 12/30/2019.

Filed Date: 1/28/20.

Accession Number: 20200128-5112.

Comments Due: 5 p.m. ET 2/18/20.

Docket Numbers: ER20-533-001.

Applicants: Niagara Mohawk Power Corporation, New York Independent System Operator, Inc.

Description: Tariff Amendment: Revised SGIA (SA2498) between Niagara Mohawk Power Corporation & GR Catalyst Two to be effective 11/26/2019.

Filed Date: 1/28/20.

Accession Number: 20200128-5093.

Comments Due: 5 p.m. ET 2/18/20.

Docket Numbers: ER20-881-000.

Applicants: PJM Interconnection, L.L.C.

Description: § 205(d) Rate Filing: Original ISA, SA No. 5558; Queue No. AE1-142 to be effective 1/7/2020.

Filed Date: 1/28/20.

Accession Number: 20200128-5019.

Comments Due: 5 p.m. ET 2/18/20.

Docket Numbers: ER20-882-000.

Applicants: PacifiCorp.

Description: § 205(d) Rate Filing: OATT Revised Attachment K—NorthernGrid Planning Process to be effective 4/1/2020.

Filed Date: 1/28/20.

Accession Number: 20200128-5111.

Comments Due: 5 p.m. ET 2/18/20.

Docket Numbers: ER20-883-000.

Applicants: NorthWestern Corporation.

Description: § 205(d) Rate Filing: NorthernGrid Attachment K to be effective 4/1/2020.

Filed Date: 1/28/20.

Accession Number: 20200128-5116.

Comments Due: 5 p.m. ET 2/18/20.

Docket Numbers: ER20-885-000.

Applicants: Avista Corporation.

Description: § 205(d) Rate Filing: Avista Corp OATT Attachment K for NorthernGrid to be effective 4/1/2020.

Filed Date: 1/28/20.

Accession Number: 20200128-5126.

Comments Due: 5 p.m. ET 2/18/20.

Docket Numbers: ER20-886-000.

Applicants: Orsted US Trading LLC.

Description: Baseline eTariff Filing: baseline new to be effective 4/1/2020.

Filed Date: 1/28/20.

Accession Number: 20200128-5129.

Comments Due: 5 p.m. ET 2/18/20.

Docket Numbers: ER20-887-000.

Applicants: Duke Energy Carolinas, LLC.

Description: Tariff Cancellation: DEC-Prosperity NITSA (SA No. 413)—Notice of Cancellation to be effective 1/1/2020.

Filed Date: 1/28/20.

Accession Number: 20200128-5151.

Comments Due: 5 p.m. ET 2/18/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2020.
Kimberly D. Bose,
Secretary.

[FR Doc. 2020-01955 Filed 1-31-20; 8:45 am]

BILLING CODE 6717-01-P